DEPARTMENT OF HEALTH AND HUMAN SERVICES

Food and Drug Administration

[Docket No. FDA-2012-N-0129]

Agency Information Collection Activities; Proposed Collection; Comment Request; General Licensing Provisions; Section 351(k) Biosimilar Applications; Correction

AGENCY: Food and Drug Administration, HHS.

ACTION: Notice; correction.

SUMMARY: The Food and Drug Administration (FDA) is correcting a notice that appeared in the Federal Register of February 15, 2012 (77 FR 8880). The document announced an opportunity for public comment on the proposed collection of certain information by the Agency. The document was published with an incorrect docket number. This document corrects that error.

FOR FURTHER INFORMATION CONTACT: Joyce Strong, Office of Policy, Food and Drug Administration, 10903 New Hampshire Ave., Bldg. 32, rm. 3208, Silver Spring, MD 20993-0002, 301-796-9148.

SUPPLEMENTARY INFORMATION: In FR Doc. 2012-3548, appearing on page 8880, in the Federal Register of Wednesday, February 15, 2012, the following correction is made:

On page 8880, in the second column, in the Docket No. heading, “[Docket No. FDA-2012-N-1029]” is corrected to read “[Docket No. FDA-2012-N-0129]”.

Dated: February 16, 2012.
Leslie Kux,
Acting Assistant Commissioner for Policy.

[FR Doc. 2012-4168 Filed 2-22-12; 8:45 am]

BILLING CODE 4160-01-P